DEPARTMENT OF DEFENSE

Office of the Secretary

[DoD-2007-OS-0101]

Privacy Act of 1974; System of Records

AGENCY: Office of the Secretary, DoD.

ACTION: Notice to amend two systems of records.

SUMMARY: The Office of the Secretary of Defense is amending two systems of records notices in its existing inventory of record systems subject to the Privacy Act of 1974, (5 U.S.C. 552a), as amended.

DATES: This proposed action will be effective without further notice on November 1, 2007 unless comments are received which result in a contrary determination.

ADDRESSES: Send comments to the OSD Privacy Act Coordinator, Records Management Section, Washington Headquarters Services, 1155 Defense Pentagon, Washington, DC 20301-1155.

FOR FURTHER INFORMATION CONTACT: Ms. Karen Finnegan at (703) 696-3081.

SUPPLEMENTARY INFORMATION: The Office of the Secretary of Defense systems of records notices subject to the Privacy Act of 1974, (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: September 26, 2007.
L.M. Bynum,
Alternative OSD Federal Register Liaison Officer, Department of Defense.

S322.01 DMDC

SYSTEM NAME: Defense Outreach Referral System (DORS) (June 5, 2006, 712 FR 32327).

Changes:

SYSTEM IDENTIFIER: Delete entry and replace with “DMDC 03”.

* * * * *

Routine uses of records maintained in the system, including categories of users and the purposes of such uses: Delete entry and replace with “The DoD ‘Blanket Routine Uses’ set forth at the beginning of the OSD compilation of systems of records notices apply to this system.”

* * * * *

NOTIFICATION PROCEDURE:

Delete entry and replace with “Individuals seeking to determine whether information about themselves is contained in this system should address written inquiries to the Privacy Act Officer, Office of Freedom of Information, Washington Headquarters Services, 1155 Defense Pentagon, Washington, DC 20301-1155.

Written requests should contain the individual's full name, Social Security Number (SSN), date of birth, and current address and telephone number.”

RECORD ACCESS PROCEDURES:

Delete entry and replace with “Individuals seeking access to information about themselves contained in this system should address written inquiries to the Privacy Act Officer, Office of Freedom of Information, Washington Headquarters Services, 1155 Defense Pentagon, Washington, DC 20301-1155.

Written requests should contain the individual's full name, Social Security Number (SSN), date of birth, and current address and telephone number.”

CONTESTING RECORD PROCEDURES:

Delete entry and replace with “The OSD rules for accessing records, for contesting contents and appealing initial agency determinations are published in OSD Administrative Instruction 81; 32 CFR part 311; or may be obtained from the Privacy Act Officer, Office of Freedom of Information, Washington Headquarters Services, 1155 Defense Pentagon, Washington, DC 20301-1155.”

* * * * *

DMDC 03

SYSTEM NAME:

Defense Outreach Referral System (DORS).

SYSTEM LOCATION:

Naval Postgraduate School Computer Center, Naval Postgraduate School, Monterey, CA 93943-5000.

CATEGORIES OF INDIVIDUALS COVERED BY THE SYSTEM:

Current and former Defense military and civilian personnel and their spouses; U.S. Coast Guard personnel and their spouses; and participating Federal departments' and/or agencies' civilian employees and their spouses who have applied to take part in this job placement program.

Individuals covered under Public Laws 102-484 and 103-337, who have applied for public employment.

Categories Of Records In The System:

Computerized records consisting of name, Social Security Number, correspondence address, branch of service, date of birth, separation status, travel availability, U.S. citizenship, occupational interests, geographic location work preferences, pay grade, rank, last unit of assignment, educational levels, dates of military or civilian service, language skills, flying status, security clearances, civilian and military occupation codes, and self reported personal comments for the purpose of providing prospective employers with a centralized system for locating potential employees.

AUTHORITY FOR MAINTENANCE OF THE SYSTEM:

10 U.S.C. 136, Under Secretary of Defense for Personnel and Readiness; 10 U.S.C. 1143 and 1144; 10 U.S.C. 2358; 31 U.S.C. 1535; Public Law 101-510, 102-484 and 103-337; and E.O. 9397 (SSN).

PURPOSE(S):

The purpose of this system is to facilitate the transition of current and former Defense military and their spouses; U.S. Coast Guard personnel and their spouses; and participating Federal department's and/or agencies' civilian employees and their spouses to private industry and public employment in the event of a downsizing of the Department of Defense and the Federal Government.

For former military members covered under Public Law 102-484 and Public Law 103-337, the information will be used to track the participant's public employment and to verify the participant's public employment history for DoD and DoT retirement and pay eligibility.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The DoD `Blanket Routine Uses' set forth at the beginning of the OSD compilation of systems of records notices apply to this system.

POLICIES AND PRACTICES OF STORING, RETRIEVING, ACCESSING, RETAINING AND DISPOSING OF RECORDS IN THE SYSTEM:

STORAGE:

Electronic storage media.

RETRIEVABILITY:

Retrieved by Social Security Number (SSN) or occupational or geographic preference of the individual.

SAFEGUARDS:

Access to data at all locations is restricted to those who require the records in the performance of their official duties. Access is further restricted by the use of passwords which are changed periodically. Physical entry is restricted by the use of locks, guards, and administrative procedures.

RETENTION AND DISPOSAL:

Delete when 5 years old or when no longer needed for operational purposes, whichever is later.

SYSTEM MANAGER(S) AND ADDRESS:

Director, Defense Manpower Data Center, 1600 Wilson Boulevard, Suite 400, Arlington, VA 22209-2593.

NOTIFICATION PROCEDURE:

Individuals seeking to determine whether information about themselves is contained in this system should address written inquiries to the Privacy Act Officer, Office of Freedom of Information, Washington Headquarters Services, 1155 Defense Pentagon, Washington, DC 20301-1155.

Written requests should contain the individual's full name, Social Security Number (SSN), date of birth, and current address and telephone number.

RECORD ACCESS PROCEDURES:

Individuals seeking access to information about themselves contained in this system should address written inquiries to the Privacy Act Officer, Office of Freedom of Information, Washington Headquarters Services, 1155 Defense Pentagon, Washington, DC 20301-1155.

Written requests should contain the individual's full name, Social Security Number (SSN), date of birth, and current address and telephone number.

CONTESTING RECORD PROCEDURES:

The OSD rules for accessing records, for contesting contents and appealing initial agency determinations are published in OSD Administrative Instruction 81; 32 CFR part 311; or may be obtained from the Privacy Act Officer, Office of Freedom of Information, Washington Headquarters Services, 1155 Defense Pentagon, Washington, DC 20301-1155.

RECORD SOURCE CATEGORIES:

The Military Services, DoD Components, the U.S. Coast Guard, participating Federal departments and/or agencies, and from the subject individual via application into the program.

EXEMPTIONS CLAIMED FOR THE SYSTEM:

None.

S322.05 DMDC

SYSTEM NAME:

Noncombatant Evacuation & Repatriation Data Base (NEO) (June 5, 2006, 71 FR 32328).

CHANGES:

* * * * *

SYSTEM IDENTIFIER:

Delete entry and replace with “DMDC 04”.

* * * * *

Routine uses of records maintained in the system, including categories of users and the purposes of such uses:

Delete entry and replace “The DoD `Blanket Routine Uses' set forth at the beginning of the OSD compilation of systems of records notices apply to this system.”

* * * * *

NOTIFICATION PROCEDURE:

Delete entry and replace with “Individuals seeking to determine whether information about themselves is contained in this system should address written inquiries to the Privacy Act Officer, Office of Freedom of Information, Washington Headquarters Services, 1155 Defense Pentagon, Washington, DC 20301-1155.

Written requests should contain the individual's full name, Social Security Number (SSN), date of birth, and current address and telephone number.

RECORD ACCESS PROCEDURES:

Delete entry and replace with “Individuals seeking access to information about themselves contained in this system should address written inquiries to the Privacy Act Officer, Office of Freedom of Information, Washington Headquarters Services, 1155 Defense Pentagon, Washington, DC 20301-1155.

Written requests should contain the individual's full name, Social Security Number (SSN), date of birth, and current address and telephone number.”

CONTESTING RECORD PROCEDURES:

Delete entry and replace with “The OSD rules for accessing records, for contesting contents and appealing initial agency determinations are published in OSD Administrative Instruction 81; 32 CFR part 311; or may be obtained from the Privacy Act Officer, Office of Freedom of Information, Washington Headquarters Services, 1155 Defense Pentagon, Washington, DC 20301-1155.

* * * * *

DMDC 04

SYSTEM NAME:

Noncombatant Evacuation and Repatriation Data Base (NEO).

SYSTEM LOCATION:

Defense Manpower Data Center, DoD Center Monterey Bay, 400 Gigling Road, Seaside, CA 93955-6771. Information may be accessed by remote terminals at the repatriation centers. The location of the repatriation centers can be obtained from the System manager listed below.

CATEGORIES OF INDIVIDUALS COVERED BY THE SYSTEM:

All noncombatant evacuees including service members, their dependents, DoD and non-DoD employees and dependents, U.S. residents abroad, foreign nationals and corporate employees and dependents.

CATEGORIES OF RECORDS IN THE SYSTEM:

Social Security Number, name, date of birth, passport number, country of citizenship, marital status, gender, employer, destination address and type of assistance needed.

AUTHORITY FOR MAINTENANCE OF THE SYSTEM:

E.O. 12656, Assignment of Emergency Preparedness Responsibilities, November 18, 1988; DoD Directive 3025.14, Protection and Evacuation of U.S. Citizens and Designated Aliens in Danger Areas Abroad; and E.O. 9397 (SSN).

PURPOSE(S):

The records are maintained for the purposes of tracking and accounting for individuals evacuated from emergency situations in foreign countries, securing relocation and assistance services, and assessing and recovering relocation costs.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To individuals who have been evacuated but who have been separated from their family and/or spouse. Information will be released to the individual indicating where the family member was evacuated from and final destination.

To Department of State to plan and monitor evacuation effectiveness and need for services and to verify the number of people by category who have been evacuated.

To the American Red Cross so that upon receipt of information from a repatriation center that a DoD family has arrived safely in the U.S., the Red Cross may notify the service member (sponsor) still in the foreign country that his/her family has safely arrived in the United States.

To the Immigration and Naturalization Service to track and make contact with all foreign nationals who have been evacuated to the U.S.

To the Department of Health and Human Services for purposes of giving financial assistance and recoupment of same. To identify individuals who might arrive with an illness which would require quarantine.

The DoD 'Blanket Routine Uses' set forth at the beginning of the OSD compilation of systems of records notices apply to this system.

POLICIES AND PRACTICES FOR STORING, RETRIEVING, ACCESSING AND DISPOSING OF RECORDS IN THE SYSTEM:

STORAGE:

Paper files in file folders and electronic storage media.

RETRIEVABILITY:

Retrieved by name, Social Security Number (SSN), or location of evacuation point or repatriation center.

SAFEGUARDS:

Computerized records are maintained in a controlled area accessible only to authorized personnel. At Defense Manpower Data Center (DMDC), entry to these areas is restricted by the use of locks, guards, and administrative procedures. Access to personal information is limited to those who require the records in the performance of their official duties. Access to personal information is further restricted by the use of passwords which are changed periodically.

RETENTION AND DISPOSAL:

Master file, system documentation, codebooks, record layouts, and other system documentation are permanent. Inputs/Source Records are deleted and/or destroyed after data have been entered into the master file or when no longer needed for operational purposes, whichever is later. Summary reports (electronic or paper) are deleted and/or destroyed when no longer needed for operational purposes.

SYSTEM MANAGER(S) AND ADDRESS:

Director, Defense Manpower Data Center, 1600 Wilson Boulevard, Suite 400, Arlington, VA 22209-2593.

NOTIFICATION PROCEDURE:

Individuals seeking to determine whether information about themselves is contained in this system should address written inquiries to the Privacy Act Officer, Office of Freedom of Information, Washington Headquarters Services, 1155 Defense Pentagon, Washington, DC 20301-1155.

Written requests should contain the individual's full name, Social Security Number (SSN), date of birth, and current address and telephone number.

RECORD ACCESS PROCEDURES:

Individuals seeking access to information about themselves contained in this system should address written inquiries to the Privacy Act Officer, Office of Freedom of Information, Washington Headquarters Services, 1155 Defense Pentagon, Washington, DC 20301-1155.

Written requests should contain the individual's full name, Social Security Number (SSN), date of birth, and current address and telephone number.

CONTESTING RECORD PROCEDURES:

The OSD rules for accessing records, for contesting contents and appealing initial agency determinations are published in OSD Administrative Instruction 81; 32 CFR part 311; or may be obtained from the Privacy Act Officer, Office of Freedom of Information, Washington Headquarters Services, 1155 Defense Pentagon, Washington, DC 20301-1155.

RECORD SOURCE CATEGORIES:

The Military Services, DoD Components, and from individuals via application.

EXEMPTIONS CLAIMED FOR THE SYSTEM:

None.

[FR Doc. E7-19428 Filed 10-1-07; 8:45 am]

BILLING CODE 5001-06-P